FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Census of Finance Companies and Survey of Finance Companies (FR 3033p and FR 3033s; OMB No. 7100-0277). The revisions are effective immediately.

FOR FURTHER INFORMATION CONTACT: Federal Reserve Board Clearance Officer—Nuha Elmaghrabi—Office of the Chief Data Officer, Board of Governors of the Federal Reserve System, Washington, DC 20551, (202) 452-3829. Office of Management and Budget (OMB) Desk Officer—Shagufta Ahmed—Office of Information and Regulatory Affairs, Office of Management and Budget, New Executive Office Building, Room 10235, 725 17th Street NW, Washington, DC 20503, or by fax to (202) 395-6974.

A copy of the Paperwork Reduction Act (PRA) OMB submission, including the reporting form and instructions, supporting statement, and other documentation will be placed into OMB's public docket files. These documents also are available on the Federal Reserve Board's public website at https://www.federalreserve.gov/apps/reportforms/review.aspx or may be requested from the agency clearance officer, whose name appears above.

SUPPLEMENTARY INFORMATION: On June 15, 1984, OMB delegated to the Board authority under the PRA to approve and assign OMB control numbers to collections of information conducted or sponsored by the Board. Board-approved collections of information are incorporated into the official OMB inventory of currently approved collections of information. Copies of the PRA Submission, supporting statements, and approved collection of information instrument(s) are placed into OMB's public docket files.

Final Approval Under OMB Delegated Authority of the Extension for Three Years, With Revision, of the Following Information Collections

Report title: Census of Finance Companies.

Agency form number: FR 3033p.

OMB control number: 7100-0277.

Effective Date: The revisions are effective immediately.

Frequency: Quinquennially.

Respondents: Finance companies.

Estimated number of respondents: 12,800.

Estimated average hours per response: 0.33.

Estimated annual burden hours: 4,224.

General description of report: The FR 3033p is a census survey designed to identify the universe of finance companies eligible for potential inclusion in the FR 3033s and to enable the stratification of the sample for more statistically efficient estimation. The FR 3033p currently comprises 11 questions to assess the company's asset size, level of loan and lease activity, company structure, and licensing authority.

Report title: Survey of Finance Companies.

Agency form number: FR 3033s.

OMB control number: 7100-0277.

Effective Date: The revisions are effective immediately.

Frequency: Quinquennially.

Respondents: Finance companies that responded to the FR 3033p.

Estimated number of respondents: 1,200.

Estimated average hours per response: 1.5.

Estimated annual burden hours: 1,800.

General description of report: From the universe of finance companies identified by the FR 3033p, a sample of finance companies will be invited to fill out FR 3033s. From these finance companies, the FR 3033s survey collects balance sheet data on major categories of consumer and business credit receivables and major liabilities. In addition, the survey may be used to gather information on topics that are pertinent to increasing the Federal Reserve's understanding of the finance companies.

Legal authorization and confidentiality: The FR 3033 is authorized pursuant to sections 2A and 12A of the Federal Reserve Act (“FRA”). Section 2A of the FRA requires that the Board and the Federal Open Market Committee (“FOMC”) “maintain long run growth of the monetary and credit aggregates commensurate with the economy's long run potential to increase production, so as to promote effectively the goals of maximum employment, stable prices, and moderate long-term interest rates” (12 U.S.C. 225a). Under section 12A of the FRA, the FOMC is required to implement regulations relating to the open market operations conducted by Federal Reserve Banks “with a view to accommodating commerce and business and with regard to their bearing upon the general credit situation of the country” (12 U.S.C. 263). Information collected from the FR 3033 is used to fulfill these obligations.

The information collected pursuant to the FR 3033 may be treated as confidential pursuant to exemption 4 of the Freedom of Information Act, 5 U.S.C. 552(b)(4), which protects “trade secrets and commercial or financial information obtained from a person [that is] privileged or confidential.”

Current actions: On January 16, 2020, the Board published a notice in the Federal Register (85 FR 2740) requesting public comment for 60 days on the extension, with revision, of the Census of Finance Companies and Survey of Finance Companies. The Board proposed to revise the FR 3033p to improve the accuracy of identifying finance companies, improve response rates, and simplify the form overall; the FR 3033s is not being revised in this submission. The comment period for this notice expired on March 16, 2020. The Board did not receive any comments. The revisions will be implemented as proposed.

Board of Governors of the Federal Reserve System, April 8, 2020.
Michele Taylor Fennell,
Assistant Secretary of the Board.

[FR Doc. 2020-07739 Filed 4-10-20; 8:45 am]

BILLING CODE 6210-01-P